MILLENNIUM CHALLENGE CORPORATION

[MCC FR 06-14]

Notice of the September 12, 2006 Millennium Challenge Corporation Board of Directors Meeting; Sunshine Act Meeting

AGENCY: Millennium Challenge Corporation.

TIME AND DATE: 4:30 p.m. to 6:30 p.m., Tuesday, September 12, 2006.

PLACE: Department of State, 2201 C Street, NW., Washington, DC 20520.

FOR FURTHER INFORMATION CONTACT: Information on the meeting may be obtained from Suzi M. Morris via e-mail at Board@mcc.gov or by telephone at (202) 521-3600.

STATUS: Meeting will be closed to the public.

MATTERS TO BE CONSIDERED: The Board of Directors (the “Board”) of the Millennium Challenge Corporation (“MCC”) will hold a meeting to initiate the FY 2007 country selection process by identifying countries that will be candidates for Millennium Challenge Account (“MCA”) assistance in FY 2007 based on the per capita income and other requirements of Section 606(a) of the Millennium Challenge Act of 2003 (Pub. L. 108-199 (Division D)) (the “Act”) and to discuss other Compact development efforts with MCA-eligible countries, the MCC Threshold Program, and certain administrative matters, all which are expected to involve the consideration of classified information and will be closed to the public.

Dated: August 30, 2006.
William G. Anderson, Jr.,
Vice President and General Counsel (Acting), Millennium Challenge Corporation.

[FR Doc. 06-7426 Filed 8-30-06; 2:30 pm]

BILLING CODE 9210-01-P